DEPARTMENT OF HEALTH AND HUMAN SERVICES

Indian Health Service

Native American Research Centers for Health; Intent to Fund Competitive Grants

AGENCY: Indian Health Service, HHS.

ACTION: Notice of intent to fund competitive grants for Native American research centers for health.

SUMMARY: The Indian Health Service (IHS) in association with the National Institute of General Medical Sciences (NIGMS), National Institutes of Health, announces the intent to fund competitive grants to establish American Indian/Alaska Native research centers in fiscal year (FY) 2001.

This new grant program is titled Native American Research Centers for Health (NARCH). It is authorized under section 301(a) of the Public Health Service Act and described at Catalog of Federal Assistance #93.933.

Intent of Notice: The intent of this notice is to alert potential tribal and area/national Indian health applicants of the program and to encourage them to identify and to develop partnerships with academic research centers and universities in preparation for applying for a grant.

The IHS and NIGMS plan to hold technical assistance and information sharing workshops about this grant program in July and August 2000. You should contact Dr. William Freeman at the location below for information on dates and locations of these workshops.

It is anticipated that the program announcement and application guidelines will be available for distribution in mid-July 2000 with an application receipt deadline of December 12, 2000. Application packets will be distributed directly to eligible organizations, i.e., Tribal Chairmen; Directors of tribal health departments, and Executive Directors of Indian health organizations.

Purposes: The purposes of the centers are: to encourage competitive research on well-defined diseases and health conditions of importance for American Indians; to develop and evaluate interventions to reduce health disparities and to enhance the strengths and resiliencies of Native communities and individuals; to develop a cadre of American Indian scientists and health professionals engaged in biomedical, clinical, and behavioral research that is competitive for NIH funding; and to increase the capacity of both the research intensive organizations and the Indian organizations to work in partnership to produce competitive research.

Eligibility: Federally recognized tribes, tribal consortia, and area/national non-profit Indian health organizations that are sanctioned by tribal governments are eligible to apply for this grant award, with collaborations with academic research centers and universities required. Each center shall have a governing board predominately composed of tribal representatives that will be responsible for determining the research priorities in consultation with the tribal and Indian communities involved.

Funding Availability: It is anticipated the $1.5 million will be available for award of up to five grants in FY 2001, with this amount available for each succeeding year through FY 2004. Award of grants is subject to the availability of funds. Awards will be issued with one-year budget periods with total project periods of up to four years, renewable annually.

Applicants under this program are encouraged to seek additional funding from other sources (university, tribal, private foundation, etc.) to augment monies available from the IHS.

Contacts for Information: If you have questions regarding this program, you may contact the following:

Program Information

William L. Freeman, MD, MPH, Research Program, Indian Health Service, Twinbrook Metro Plaza, Room 450, 12300 Twinbrook Parkway, Rockville, Maryland 29852, Telephone: (301) 443-0578, FAX: (301) 443-7538, Email: wfreeman@HQE.ihs.gov

Grants (Business) Information

Patricia SpottedHorse, Grants Management Specialist, Grants Management Branch, Twinbrook Metro Plaza, Suite 100, 123 Twinbrook Parkway, Rockville, Maryland 20852, Telephone: (301) 443-5204, FAX: (301) 443-9602

Dated: June 12, 2000.
Michel E. Lincoln,
Acting Director.

[FR Doc. 00-15277 Filed 6-15-00; 8:45 am]

BILLING CODE 4160-16-M